FEDERAL EMERGENCY MANAGEMENT AGENCY

Fee Schedule for Processing Requests for Map Changes, for Flood Insurance Study Backup Data, and for National Flood Insurance Program Map and Insurance Products

AGENCY: Federal Emergency Management Agency (FEMA).

ACTION: Notice.

SUMMARY: This notice contains the revised fee schedules for processing certain types of requests for changes to National Flood Insurance Program (NFIP) maps, for processing requests for Flood Insurance Study (FIS) technical and administrative support data, and for processing requests for particular NFIP map and insurance products. The changes in the fee schedules will allow us (FEMA) to reduce further the expenses to the NFIP by recovering more fully the costs associated with: (1) Processing conditional and final map change requests; (2) retrieving, reproducing, and distributing technical and administrative support data related to FIS analyses and mapping; and (3) producing, retrieving, and distributing particular NFIP map and insurance products.

EFFECTIVE DATE: The revised fee schedules are effective for all requests dated June 1, 2000, or later.

FOR FURTHER INFORMATION CONTACT: Matthew B. Miller, Chief, Hazards Study Branch, Mitigation Directorate, 500 C Street SW., Washington, DC 20472, by telephone at (202) 646-3461, by facsimile at (202) 646-4596 (not toll-free calls), or by email at matt.miller@fema.gov.

SUPPLEMENTARY INFORMATION: Throughout this notice, we use “we”, “our”, and “us” to refer to FEMA.

This notice contains the revised fee schedules for processing certain types of requests for changes to NFIP maps, requests for FIS technical and administrative support data, and requests for particular NFIP map and insurance products.

Effective Dates. The revised fee schedule for map changes is effective for all requests dated June 1, 2000, or later. The revised fee schedule supersedes the current fee schedule, which was established on March 1, 1999.

The revised fee schedule for requests for FIS technical and administrative support data also is effective for all requests dated June 1, 2000, or later. The revised fee schedule supersedes the current fee schedule, which was established on March 1, 1999.

The revised fee schedule for requests for particular NFIP map and insurance products, which are available through our Map Service Center (MSC), is effective for all written requests dated June 1, 2000, and for all telephone requests received on or after June 1, 2000. The revised fee schedule supersedes the current fee schedule.

Evaluations Performed. To develop the revised fee schedule for conditional and final map change requests, we evaluated the actual costs of reviewing and processing requests for Conditional Letters of Map Amendment (CLOMAs), Conditional Letters of Map Revision Based on Fill (CLOMR-Fs), Conditional Letters of Map Revision (CLOMRs), Letters of Map Revision Based on Fill (LOMR-Fs), Letters of Map Revision (LOMRs), and Physical Map Revisions (PMRs).

To develop the revised fee schedule for requests for FIS technical and administrative support data, we evaluated the actual costs of retrieving, reproducing, and distributing archived data in seven categories. We discuss these categories in more detail below.

To develop the revised fee schedule for requests for particular NFIP map and insurance products, we: (1) Evaluated the actual costs incurred at the MSC for producing, retrieving, and distributing those products; (2) analyzed historical sales, cost data, and product unit cost for unusual trends or anomalies; and (3) analyzed the effect of program changes, new products, technology investments, and other factors on future sales and product costs. We discuss the products that this notice covers in detail below.

Periodic Evaluation of Fees. As we indicated in the Federal Register notice that we published on February 6, 1997, at 62 FR 5739-5740, primary components of the fees are the prevailing rates that the private sector charges to us for labor and materials. Because these rates and the actual review and processing costs may vary from year to year, we will evaluate the fees periodically and publish revised fee schedules as notices in the Federal Register.

Fee Schedule for Requests for Conditional Letters of Map Amendment and Conditional and Final Letters of Map Revision Based on Fill

Based on our review of actual cost data for Fiscal Year 1999, we are continuing to charge the following review and processing fees, which requesters must submit with all requests:

Request for single-lot/single-structure CLOMA, CLOMR-F, and LOMR-F | $400
Request for single-lot/single-structure LOMR-F based on as-built information (CLOMR-F previously issued by us) | 300
Request for multiple-lot/multiple-structure CLOMA | 700
Request for multiple-lot/multiple-structure CLOMR-F and LOMR-F | 800
Request for multiple-lot/multiple-structure LOMR-F based on as-built information (CLOMR-F previously issued by us) | 700

Fee Schedule for Requests for Conditional Map Revisions

Based on our review of actual cost data for Fiscal Year 1999, we are continuing to charge the following review and processing fees, which requesters must submit with all requests unless 44 CFR 72.5 exempts them:

Request based on new hydrology, bridge, culvert, channel, or combination of any of these | $3,100
Request based on levee, berm, or other structural measure | 4,000

Fee Schedule for Requests for Map Revisions

Based on our review of actual cost data for Fiscal Year 1999, we revised the review and processing fee for requests based on levees, berms, or other structural measures, from $4,700 to $6,000. Therefore, unless 44 CFR 72.5 exempts the request, requesters must submit the review and processing fees shown below with requests for LOMRs and PMRs dated June 1, 2000, or later that are not based on structural measures on alluvial fans.

Request based on bridge, culvert, channel, or combination thereof | $4,000
Request based on levee, berm, or other structural measure | 6,000
Request based on as-built information submitted as followup to CLOMR | 3,400

Fees for Conditional and Final Map Revisions Based on Structural Measures on Alluvial Fans.

Based on our review of actual cost data for Fiscal Year 1999, we are continuing to charge $5,000 as the initial fee for requests for LOMRs and CLOMRs based on structural measures on alluvial fans. We also will continue to recover the remainder of the review and processing costs by invoicing the requester before issuing a determination letter, consistent with current practice. We will continue to use the prevailing private-sector labor rate charged to us ($50 per hour) to calculate the total reimbursable fees.

Fee Schedule for Requests for Flood Insurance Study Backup Data

Under the current fee schedule, non-exempt requesters of FIS technical and administrative support data pay a non-refundable fee of $140 to initiate their request under Categories 1, 2, and 3, (See detailed list of categories below.) This fee covers the preliminary costs of research and retrieval for such requests. If the requester asks for data that are available and does not cancel the request, we calculate the final fee due as the sum of the standard per-product charge plus a per-case surcharge of $93. We designed the surcharge to recover costs for maintaining our library archives, for producing CD-ROMs of data, and for collecting and depositing fees.

Based on our review of actual cost data for Fiscal Year 1999, we decreased the non-refundable fee that requesters must submit to us from $140 to $120. We did not change the per-case surcharge of $93, nor any of the other previously established fees.

We expanded the number of data requesters that are exempt from submitting fees for requests for FIS technical and administrative support data. Through the changes that we make effective by this Notice, mapped participating communities and the State agencies that are NFIP Coordinators will be exempt from submitting fees.

Requesters must submit the user fees shown below with requests for technical and administrative support data dated June 1, 2000, or later. We will charge all entities except the following for requests for FIS technical and administrative support data:

• Private architectural-engineering firms under contract to us to perform or evaluate studies and restudies;

• Federal agencies that perform or contract for studies and restudies for us (i.e., U.S. Army Corps of Engineers, U.S. Geological Survey, Natural Resources Conservation Service, and Tennessee Valley Authority);

• Communities that supply the Digital Line Graph base to us and request the Digital Line Graph data (Category 6 below);

• Communities that request data during the statutory 90-day appeal period for an initial or revised FIS for that community;

• Mapped participating communities that request data at any time other than during the statutory 90-day appeal period, provided that the community requests the data for its use and not for a third-party user; and

• State NFIP Coordinators, provided that the data that they request are for use by the State NFIP Coordinators and not for use by a third-party user.

We have established seven categories into which we separate requests for FIS backup data. These categories are:

(1) Category 1—paper copies, microfiche, or diskettes of hydrologic and hydraulic backup data for current or historical FISs;

(2) Category 2—Paper or mylar copies of topographic mapping developed during FIS process;

(3) Category 3—Paper copies of microfiche of survey notes developed during FIS process;

(4) Category 4—Paper copies of individual Letters of Map Change (LOMCs);

(5) Category 5—Paper copies of Preliminary Flood Insurance Rate Map or Flood Boundary and Floodway Map panels;

(6) Category 6—Computer tapes or CD-ROMs of Digital Line Graph or Digital Flood Insurance Rate Map files; and

(7) Category 7—Computer diskettes and user's manuals for our computer programs.

Requesters must submit a non-refundable fee of $120, to cover the preliminary costs of research and retrieval, to initiate requests for data under Categories 1, 2, and 3. The total costs of processing requests in Categories 1, 2, and 3 above will vary based on the complexity of the research involved in retrieving the data and the volume and medium of data that we must reproduce and distribute. We will apply the initial fee against the total costs to process the request, and we will invoice the requester for the balance plus the per-case surcharge before we provide the data. We will not provide any data to requesters until they pay all required fees.

We do not require an initial fee to initiate a request for data under Categories 4 through 7. We will notify requesters by telephone about the availability of the data and the fees associated with requested data. As with requests for data under Categories 1, 2, and 3, we will not provide data to requesters until they pay all required fees.

We did not change the costs for processing requests under Categories 4 through 7. Therefore, we will continue to require the flat user fees for these categories of requests as we show below.

Request Under Category 4 (First letter) | $40
Request Under Category 4 (Each additional letter) | 10
Request Under Category 5 (First panel) | 35
Request Under Category 5 (Each additional panel) | 2
Request Under Category 6 (Per county) | 150
Request Under Category 7 (per copy) | 25

Fee Schedule for Requests for Map and Insurance Products

The MSC distributes a variety of NFIP maps and insurance products to a broad range of customers, including Federal, State, and local government officials; real estate professionals; insurance providers; appraisers; builders; land developers; design engineers; surveyors; lenders; homeowners; and other private citizens. The MSC distributes the following products:

• Paper (printed) copies of Flood Hazard Boundary Maps (FHBMs);

• Paper (printed) copies of Flood Insurance Rate Maps (FIRMs);

• Paper (printed) copies of Digital Flood Insurance Rate Maps (DFIRMs);

• Printed copies of Flood Insurance Studies (FIS), including the narrative report, tables, Flood profiles, and other graphics;

• Paper (printed) copies of Flood Boundary and Floodway Maps (FBFMs), when we include them as an exhibit in the FIS;

• Digital Q3 Flood Data files, which we developed by scanning the published FIRM and vectoring a thematic overlay of flood risks;

• Digital Q3 Flood Data files for Coastal Barrier Resource Areas (CBRA Q3 Flood Data files);

• Community Status Book, which is a report generated by our Community Information System database that provides pertinent map status information for all identified communities;

• Flood Map Status Information Service (FMSIS), through which we provide status information for effective NFIP maps;

• Letter of Map Change (LOMC) Subscription Service, through which we make scanned copies of certain categories of LOMCs available semimonthly on CD-ROM;

• NFIP Insurance Manual (Full Manual), which provides vital NFIP information for insurance agents nationwide;

• NFIP Insurance Manual (Producer's Edition), which is available for reference and training purposes; and

• Community Map Action List (CMAL), which is semimonthly listing of communities whose flood maps are being published or republished in the future.

For more information on the map and insurance products available from the MSC, we invite interested parties to visit the MSC Web site at http://www.fema.gov/msc.

Based on our review of historical sales, expenses, shipping data, and future trends, we revised the fee charges for paper copies of FHBMs, FIRMs, DFIRMs, and FISs to reflect actual production costs (i.e., printing and operating costs). We revised the shipping charges for all products to align more closely with actual shipping costs. Federal, State and local governments continue to be exempt from paying fees for the map products. We show the revised fee schedule in the table that follows.

Product or service | Fee | Shipping
Paper copies of FHBM, FIRM DFIRM, or FBFM panels | $1.50 per panel | $0.33 per panel for first 10 panels plus $0.02 for each additional panel.
Paper copies of FIS (not including FBFM panels that are included as exhibit) | $3.40 per FIS volume | $3.60 for first FIS plus $0.38 for each additional FIS.
Hurry Charge for FHBM, FIRM, DFIRM, FBFM, or FIS | $33.00 per order | Based on product and units shipped; no additional shipping charge if customer provides own shipping account.
Q3 Flood Data Files | $50.00 per CD-ROM | $3.30 for first 4 CD-ROMs, plus $0.10 for each additional CD-ROM in the same order.
CBRA Q3 Flood Data Files | $50.00 per CD-ROM | $3.30 for first 4 CD-ROMs, plus $0.10 for each additional CD-ROM in the same order.
Community Status Book (individual orders) | $2.50 per State, $20.50 for entire U.S | $1.00 per State, $3.85 for entire U.S
Community Status Book (annual subscription) | $50.00 per State, $250.00 for entire U.S | Not applicable.
FMSIS (individual orders) | $13 per State, $38 for entire U.S | $3.30 for first 4 CD-ROMs, plus $0.10 for each additional CD-ROM in the same order.
FMSIS (annual subscription) | $148 per State, $419 for entire U.S | Not applicable.
LOMC Subscription Service (individual orders) | $85 per issue | $3.30 for first 4 CD-ROMs, plus $0.10 for each additional CD-ROM in the same order.
LOMC Subscription Service (annual subscription) | $2,000 | Not applicable.
NFIP Insurance Manual (full manual) | $25.00 per copy | Not applicable.
NFIP Insurance Manual (Producer's edition) | $15.00 per copy | Not applicable.
CMAL | No processing fee | $1.00 for each list.

Payment Submission Requirements

Requesters must make fee payments for non-exempt requests before we ship products or render services. This payment must be in the form of a check or money order or by credit card payment. Please make all checks and money orders in U.S. funds payable to the National Flood Insurance Program.

We will deposit all fees collected to the National Flood Insurance Fund, which is the source of funding for providing these services.

Dated: April 27, 2000.
Michael J. Armstrong,
Associate Director for Mitigation.

[FR Doc. 00-11013 Filed 5-2-00; 8:45 am]

BILLING CODE 6718-04-M